DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel Innovative Technologies for Cancer Research.

Date: November 5-6, 2015.

Time: 11:00 a.m. to 2:00 p.m.

Agenda: To review and evaluate grant applications.

Place: National Cancer Institute Shady Grove 9609 Medical Center Drive, Room 7W246 Rockville, MD 20850 (Telephone Conference Call).

Contact Person: Nicholas J. Kenney, Ph.D. Scientific Review Officer Research Technology and Contract Review Branch Division of Extramural Activities National Cancer Institute, NIH 9609 Medical Center Drive, Room 7W246 Rockville, MD 20850 240-276-6374 nicholas.kenney@nih.gov.

Name of Committee: National Cancer Institute Special Emphasis Panel Quantitative Imaging for Evaluation of Responses to Cancer Therapies.

Date: November 12, 2015.

Time: 11:00 a.m. to 5:00 p.m.

Agenda: To review and evaluate grant applications.

Place: National Cancer Institute Shady Grove 9609 Medical Center Drive, Room 7W246 Rockville, MD 20850 (Telephone Conference Call).

Contact Person: Nicholas J. Kenney, Ph.D. Scientific Review Officer Research Technology and Contract Review Branch Division of Extramural Activities National Cancer Institute, NIH 9609 Medical Center Drive, Room 7W246 Rockville, MD 20850 240-276-6374 nicholas.kenney@nih.gov.

Name of Committee: National Cancer Institute Special Emphasis Panel Advanced Development and Validation of Emerging Molecular Analysis Technologies for Cancer Research.

Date: November 18, 2015.

Time: 11:00 a.m. to 5:00 p.m.

Agenda: To review and evaluate grant applications.

Place: National Cancer Institute Shady Grove 9609 Medical Center Drive, Room 2E914 Rockville, MD 20850 (Telephone Conference Call).

Contact Person: Gerard Lacourciere, Ph.D. Scientific Review Officer Research Technology and Contract Review Branch Division of Extramural Activities National Cancer Institute, NIH 9609 Medical Center Drive, Room 7W248 Rockville, MD 20850 240-276-5457 gerard.lacourciere@nih.gov.

Name of Committee: National Cancer Institute Special Emphasis Panel NCI Lasker Clinical Research Scholars Program.

Date: November 19, 2015.

Time: 11:00 a.m. to 1:00 p.m.

Agenda: To review and evaluate grant applications.

Place: National Cancer Institute Shady Grove 9609 Medical Center Drive, Room 7W126 Rockville, MD 20850, (Telephone Conference Call).

Contact Person: Caron Lyman, Ph.D. Chief, Scientific Review Officer Research Programs Review Branch Division of Extramural Activities National Cancer Institute 9609 Medical Center Drive, Room 7W126 Bethesda, MD 20892-9750 240-276-6348 lymanc@mail.nih.gov.

Name of Committee: National Cancer Institute Initial Review Group Subcommittee A—Cancer Centers.

Date: December 4, 2015.

Time: 8:00 a.m. to 10:30 a.m.

Agenda: To review and evaluate grant applications..

Place: Bethesda North Marriott Hotel & Conference Center 5701 Marinelli Road Rockville, MD 20852.

Contact Person: Shamala K. Srinivas, Ph.D. Associate Director Office of Referral, Review, and Program Coordination Division Of Extramural Activities National Cancer Institute, NIH 9609 Medical Center Drive, Room 7W530 Bethesda, MD 20892-8328 240-276-6442 ss537t@nih.gov.

Name of Committee: National Cancer Institute Special Emphasis Panel Cancer Center Support Grant.

Date: December 4, 2015.

Time: 10:45 a.m. to 12:30 p.m.

Agenda: To review and evaluate grant applications.

Place: Bethesda North Marriott Hotel & Conference Center 5701 Marinelli Road Bethesda, MD 20852.

Contact Person: David G. Ransom, Ph.D. Scientific Review Officer Resources and Training Review Branch Division of Extramural Activities National Cancer Institute, NIH 9609 Medical Center Drive, Room 7W124 Rockville, MD 20850 240-276-6351 david.ransom@nih.gov.

Name of Committee: National Cancer Institute Special Emphasis Panel Innovative Molecular Analysis Technologies for Cancer Research.

Date: December 8, 2015.

Time: 8:00 a.m. to 5:00 p.m.

Agenda: To review and evaluate grant applications.

Place: Ritz-Carlton Hotel at Pentagon City, 1250 South Hayes Street Arlington, VA 22202.

Contact Person: Gerard Lacourciere, Ph.D. Scientific Review Officer Research technology and Contract Review Branch Division of Extramural Activities National Cancer Institute, NIH 9609 Medical Center Drive, Room 7W248 Rockville, MD 20850 240-276-5457 gerard.lacourciere@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: October 8, 2015.
Melanie J. Gray,
Program Analyst, Office of Federal Advisory Committee Policy.

[FR Doc. 2015-26101 Filed 10-13-15; 8:45 am]

BILLING CODE 4140-01-P